OFFICE OF PERSONNEL MANAGEMENT

5 CFR Part 532

RIN 3206-AL44

Prevailing Rate Systems; Abolishment of Rock Island, IL, as a Nonappropriated Fund Federal Wage System Wage Area

AGENCY: U.S. Office of Personnel Management.

ACTION: Interim rule with request for comments.

SUMMARY: The U.S. Office of Personnel Management is issuing an interim rule to abolish the Rock Island, Illinois, nonappropriated fund (NAF) Federal Wage System (FWS) wage area and redefine Rock Island County, IL, and Johnson County, Iowa, as areas of application to the Lake, IL, NAF FWS wage area. Carroll County, IL, will no longer be defined. These changes are necessary because employment has significantly declined in the Rock Island NAF wage area.

DATES: Effective date: This regulation is effective on November 14, 2007. We must receive comments on or before December 14, 2007. Applicability date: FWS employees remaining in Rock Island County, IL, and Johnson County, IA, will be transferred to the Lake, IL, NAF wage area schedule on the first day of the first applicable pay period beginning on or after December 15, 2007.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The Rock Island, Illinois, nonappropriated fund (NAF) Federal Wage System (FWS) wage area is presently composed of one survey county, Rock Island County, IL, and two area of application counties, Carroll County, IL, and Johnson County, Iowa. Under section 532.219 of title 5, Code of Federal Regulations, the U.S. Office of Personnel Management (OPM) may establish an NAF wage area when there are a minimum of 26 NAF wage employees in the survey area, the local activity has the capability to host annual local wage surveys, and the survey area has at least 1,800 private enterprise employees in establishments within survey specifications. The Department of Defense (DOD) notified OPM that a reduction in NAF employment in the Rock Island wage area has left only 14 NAF FWS employees in Rock Island County and 9 NAF FWS employees in Johnson County. DOD recommended that OPM abolish the Rock Island NAF FWS wage area and redefine Rock Island and Johnson Counties as areas of application to the Lake, IL, NAF FWS wage area.

Since Rock Island and Johnson Counties will have continuing NAF employment and do not meet the regulatory criteria under 5 CFR 532.219 to be separate survey areas, they must be areas of application. In defining counties as area of application counties, OPM considers the following criteria:

(i) Proximity of largest facilities activity in each county;

(ii) Transportation facilities and commuting patterns; and

(iii) Similarities of the counties in:

(A) Overall population;

(B) Private employment in major industry categories; and

(C) Kinds and sizes of private industrial establishments.

In selecting a wage area to which Rock Island and Johnson Counties should be redefined, proximity favors the Lake NAF wage area. All other criteria are inconclusive. Based on the application of the regulatory criteria, OPM is defining Rock Island and Johnson Counties as areas of application to the Lake NAF wage area.

OPM is removing Carroll County from the wage area definition. There are no longer NAF FWS employees working in Carroll County. Under 5 U.S.C. 5343(a)(1)(B)(i), NAF wage areas “shall not extend beyond the immediate locality in which the particular prevailing rate employees are employed.” Therefore, Carroll County should not be defined as part of an NAF wage area.

The Lake NAF wage area will consist of one survey county, Lake County, and eight area of application counties: Cook, Rock Island, and Vermilion Counties, IL; Johnson County, IA; Dickinson and Marquette Counties, Michigan; and Dane and Milwaukee Counties, Wisconsin. FWS employees remaining in the Rock Island wage area will be transferred to the Lake wage area schedule on the first day of the first applicable pay period beginning on or after December 15, 2007. The Federal Prevailing Rate Advisory Committee, the national labor-management committee responsible for advising OPM on matters concerning the pay of FWS employees, has reviewed and recommended this change by consensus.

Waiver of Notice of Proposed Rulemaking and Delay in Effective Date

Pursuant to 5 U.S.C. 553(b)(3)(B) and (d)(3), I find that good cause exists to waive the general notice of proposed rulemaking. Also pursuant to 5 U.S.C. 553(d)(3), I find that good cause exists for making this rule effective in less than 30 days. This notice is being waived and the regulation is being made effective in less than 30 days because of the need to transfer the remaining NAF FWS employees in Rock Island and Johnson Counties to a continuing wage area as soon as possible.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Linda M. Springer,
Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix B to Subpart B of Part 532—Nationwide Schedule of Nonappropriated Fund Regular Wage Surveys

2. Appendix B to subpart B is amended by removing, under the State of Illinois, “Rock Island.”

Appendix D to Subpart B of Part 532—Nonappropriated Fund Wage and Survey Areas

3. Appendix D to subpart B is amended for the State of Illinois by removing the wage area listing for Rock Island, Illinois, and revising the wage area listing for Lake, Illinois, to read as follows:

* * * * *

ILLINOIS
* * * * *
Lake
Survey Area
Illinois:
Lake
Area of application. Survey area plus:
Illinois:
Cook
Rock Island
Vermilion
Iowa:
Johnson
Michigan:
Dickinson
Marquette
Wisconsin:
Dane
Milwaukee

* * * * *

[FR Doc. E7-22263 Filed 11-13-07; 8:45 am]

BILLING CODE 6325-39-P